NUCLEAR REGULATORY COMMISSION

Advisory Committee on Nuclear Waste; Notice of Meeting

The Advisory Committee on Nuclear Waste (ACNW) will hold its 139th meeting on December 17-19, 2002, at 11545 Rockville Pike, Rockville, Maryland, Room T-2B3.

The entire meeting will be open to public attendance.

The schedule for this meeting is as follows:

Tuesday, December 17, 2002

A. 10:30-10:40 a.m.: Opening Statement (Open)—The Chairman will open the meeting with brief opening remarks, outline the topics to be discussed, and indicate several items of interest.

B. 10:40-12:15 p.m.: Staff Analyses for Understanding Repository Performance (Open)—The Committee will hear presentations by and hold discussions with representatives of the NRC staff on its analyses development on the use of risk information for the proposed Yucca Mountain repository.

C. 1:30-3:30 p.m.: Preparation of ACNW Reports (Open)—The Committee will discuss proposed reports on the following topics:

• Staff Analyses for Understanding Repository Performance

• Conclusions Regarding the Safety of Spent Nuclear Fuel Transportation

• Trip Report: October Visit to Swedish Waste Management Facilities and Participation in Berlin Quadripartite Meeting

D. 3:45-6 p.m.: Preparation for Meeting with the NRC Commissioners (Open)—The next meeting with the NRC Commissioners is scheduled to be held at 9:30 a.m. in the Commissioners' Conference Room, One White Flint North on December 18, 2002. The Committee will review its proposed presentations.

Wednesday, December 18, 2002

E. 8:30-8:35 a.m.: Opening Remarks by the ACNW Chairman (Open)—The ACNW Chairman will make opening remarks regarding the conduct of the meeting.

F. 8:35-9:10 a.m.: Discussion of Topics for Meeting with the NRC Commissioners (Open)—The Committee will discuss topics scheduled for the ACNW meeting with the NRC Commissioners at 9:30 a.m.

G. 9:30-11:30 a.m.: Meeting with the NRC Commissioners (Open)—The Committee will meet with the NRC Commissioners in the Commissioners' Conference Room, One White Flint North to discuss the following:

• HLW Program Risk Insights Initiative

• Yucca Mountain Review Plan

• Spent Fuel Transportation

• Igneous Activity at Yucca Mountain

• Container Life and Source Term KTI

H. 1-3:30 p.m.: NRC Nuclear Waste Safety Research and Technical Assistance Programs (Open)—The Committee will hear from representatives of the NRC staff and the Center for Nuclear Waste Regulatory Analyses on the NRC's Waste Safety Technical Assistance and Research programs.

I. 3:45-6 p.m.: Preparation of ACNW Reports (Open)—The Committee will discuss proposed reports listed under Item C.

Thursday, December 19, 2002

J. 8-8:05 a.m.: Opening Remarks by the ACNW Chairman (Open)—The ACNW Chairman will make opening remarks regarding the conduct of the meeting.

K. 8:05-10:45 a.m.: ACNW Action Plan (Open)—The Committee members will discuss the ACNW 2002/2003 Action Plan and outline plans for sessions to assess Committee performance and update its priorities.

L. 10:45-11 a.m.: Miscellaneous (Open)—The Committee will discuss matters related to the conduct of Committee activities and matters and specific issues that were not completed during previous meetings, as time and availability of information permit.

Procedures for the conduct of and participation in ACNW meetings were published in the Federal Register on October 11, 2002 (67 FR 63459). In accordance with these procedures, oral or written statements may be presented by members of the public, electronic recordings will be permitted only during those portions of the meeting that are open to the public, and questions may be asked only by members of the Committee, its consultants, and staff. Persons desiring to make oral statements should notify Mr. Howard J. Larson, ACNW (Telephone 301/415-6805), between 8 a.m. and 4 p.m. EST, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW meeting schedules/agendas).

Videoteleconferencing service is available for observing open sessions of ACNW meetings. Those wishing to use this service for observing ACNW meetings should contact Mr. Theron Brown, ACNW Audiovisual Technician (301/415-8066), between 7:30 a.m. and 3:45 p.m. EST at least 10 days before the meeting to ensure the availability of this service. Individuals or organizations requesting this service will be responsible for telephone line charges and for providing the equipment and facilities that they use to establish the videoteleconferencing link. The availability of videoteleconferencing services is not guaranteed.

The ACNW meeting dates for Calendar Year 2003 are provided below:

ACNW meeting No. | Meeting dates
| January 2003—no meeting.
140 | February 18-20, 2003.
141 | March 25-27, 2003.
142 | April 22-24, 2003.
143 | May 28-30, 2003.
144 | June 24-26, 2003.
145 | July 29-31, 2003.
| August 2003—no meeting.
146 | September 16-18, 2003 (Nevada).
147 | October 21-23, 2003.
148 | November 18-20, 2003.
| December 2003—no meeting.

Dated: December 5, 2002.
J. Samuel Walker,
Acting Secretary of the Commission.

[FR Doc. 02-31213 Filed 12-10-02; 8:45 am]

BILLING CODE 7590-01-P